DEPARTMENT OF TRANSPORTATION

Federal Aviation Administration

14 CFR Parts 1, 21, 43, and 45

[Docket Nos. FAA-2006-25877 and 25882; Notice No. 06-18]

RIN 2120-AI78

Production and Airworthiness Approvals; Extension of Comment Period

AGENCY: Federal Aviation Administration (FAA), DOT.

ACTION: Notice of proposed rulemaking (NPRM); extension of comment period.

SUMMARY: This action extends by 30 days the comment period for an NPRM that was published on October 5, 2006. In that document, the FAA proposed changes to its certification procedures and identification requirements for aeronautical products and parts. This extension is a result of requests from the Aeronautical Repair Station Association, the Aerospace Industries Association, and the General Aviation Manufacturers Association.

DATES: Send your comments on or before February 5, 2007.

ADDRESSES: You may send comments identified by Docket Number FAA-2006-25877 using any of the following methods:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: 1-202-493-2251.

• Hand Delivery: Room PL-401 on the plaza level of the Nassif Building, 400 Seventh Street, SW., Washington, DC, between 9 a.m. and 5 p.m., Monday through Friday, except Federal holidays.

For more information on the rulemaking process, see the SUPPLEMENTARY INFORMATION section of this document.

Privacy: We will post all comments we receive, without change, to http://dms.dot.gov, including any personal information you provide. For more information, see the Privacy Act discussion in the SUPPLEMENTARY INFORMATION section of this document.

Docket: To read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Barbara Capron, Production Certification Branch, AIR-220, Federal Aviation Administration, 800 Independence Avenue, SW., Washington, DC 20591; telephone (202) 267-3343.

SUPPLEMENTARY INFORMATION:

Comments Invited

The FAA invites interested persons to participate in this rulemaking by submitting written comments, data, or views. We also invite comments relating to the economic, environmental, energy, or federalism impacts that might result from adopting the proposals in this document. The most helpful comments reference a specific portion of the proposal, explain the reason for any recommended change, and include supporting data. We ask that you send us two copies of written comments.

We will file in the docket all comments we receive, as well as a report summarizing each substantive public contact with FAA personnel concerning this proposed rulemaking. The docket is available for public inspection before and after the comment closing date. If you wish to review the docket in person, go to the address in the ADDRESSES section of this preamble between 9 a.m. and 5 p.m., Monday through Friday, except Federal holidays. You may also review the docket using the Internet at the Web address in the ADDRESSES section.

Privacy Act: Using the search function of our docket Web site, anyone can find and read the comments received into any of our dockets, including the name of the individual sending the comment (or signing the comment on behalf of an association, business, labor union, etc.). You may review DOT's complete Privacy Act Statement in the Federal Register published on April 11, 2000 (65 FR 19477-78) or you may visit http://dms.dot.gov.

Before acting on this proposal, we will consider all comments we receive on or before the closing date for comments. We will consider comments filed late if it is possible to do so without incurring expense or delay. We may change this proposal in light of the comments we receive.

If you want the FAA to acknowledge receipt of your comments on this proposal, include with your comments a pre-addressed, stamped postcard on which the docket number appears. We will stamp the date on the postcard and mail it to you.

Readers should note that the FAA has posted on its Web site (http://www.faa.gov/aircraft/draft_docs) four draft Advisory Circulars (ACs). These ACs describe ways to comply with the requirements of this NPRM. We are also extending by 30 days the comment period on the ACs. Send your comments to reach us by February 5, 2007 using any of the methods described in the ADDRESSES section of this NPRM. Note that the docket for AC comments (FAA-2006-25882) is different from the docket for NPRM comments.

Availability of Rulemaking Documents

You can get an electronic copy using the Internet by:

(1) Searching the Department of Transportation's electronic Docket Management System (DMS) Web page (http://dms.dot.gov/search);

(2) Visiting the Office of Rulemaking's Web page at http://www.faa.gov/avr/arm/index.cfm; or

(3) Accessing the Government Printing Office's Web page at http://www.gpoaccess.gov/fr/index.html.

You can also get a copy by sending a request to the Federal Aviation Administration, Office of Rulemaking, ARM-1, 800 Independence Avenue, SW., Washington, DC 20591, or by calling (202) 267-9680. Make sure to identify the docket number, notice number, or amendment number of this rulemaking.

Proprietary or Confidential Business Information

Do not file in the docket information that you consider to be proprietary or confidential business information. Send or deliver this information directly to the person identified in the FOR FURTHER INFORMATION CONTACT section of this document. You must mark the information that you consider proprietary or confidential. If you send the information on a disk or CD ROM, mark the outside of the disk or CD ROM and also identify electronically within the disk or CD ROM the specific information that is proprietary or confidential.

Under 14 CFR 11.35(b), when we are aware of proprietary information filed with a comment, we do not place it in the docket. We hold it in a separate file to which the public does not have access, and place a note in the docket that we have received it. If we receive a request to examine or copy this information, we treat it as any other request under the Freedom of Information Act (5 U.S.C. 552). We process such a request under the DOT procedures found in 49 CFR part 7.

Background

On October 5, 2006, the Federal Aviation Administration (FAA) issued a Notice of Proposed Rulemaking (NPRM) entitled, Production and Airworthiness Approvals, Part Marking, and Miscellaneous Proposals (71 FR 58915). Comments on that document were due on or before January 3, 2007.

By letter dated December 5, 2006, the Aeronautical Repair Station Association (ARSA) asked FAA to extend the comment period for 90 days. ARSA believes the need for an extended comment period arises from the scope and extent of the changes proposed in the NPRM, the timing of its release, and the impact it will have on small businesses. ARSA also asked that we extend the comment period on the draft ACs for 90 days.

By letter dated December 6, 2006, the Aerospace Industries Association (AIA) and the General Aviation Manufacturers Association (GAMA) asked FAA to extend the comment period for 45 days. AIA and GAMA cited several factors that, in their view, necessitate the extension, including the length of time since the Aviation Rulemaking Advisory Committee recommendation was submitted to FAA, the scope and impact of the proposal, and the effective shortening of the comment period by observance of the holidays.

While we concur with the petitioners' requests for an extension of the comment period, we believe that a 45-day or 90-day extension is not warranted. We have already provided a 90-day comment period. An additional 90 days would result in a comment period extending for six full months. Although we agree that additional time for comments may be needed, this need must be balanced against the need to proceed expeditiously with a rulemaking that first involved industry input through an Aviation Rulemaking Advisory Committee in 1993. We believe an additional 30 days allows adequate time for interested parties to provide meaningful comments. Absent unusual circumstances, we do not anticipate any further extension of the comment period for this rulemaking.

Extension of Comment Period

In accordance with § 11.47(c) of Title 14, Code of Federal Regulations, the FAA has reviewed the petitions made by ARSA, AIA, and GAMA for extension of the comment period on the Production and Airworthiness Approvals NPRM. The petitioners have shown a substantive interest in the proposed rule and good cause for the extension. The FAA also has determined that extension of the comment period is consistent with the public interest, and that good cause exists for taking this action.

Accordingly, we are extending the comment period for 30 days until February 5, 2007.

Issued in Washington, DC, December 13, 2006.
Dorenda D. Baker,
Acting Director, Aircraft Certification Service.

[FR Doc. E6-21657 Filed 12-19-06; 8:45 am]

BILLING CODE 4910-13-P